Proclamation 7993 of March 29, 2006

National Child Abuse Prevention Month, 2006

By the President of the United States of America

A Proclamation

Our society has a responsibility to protect our children and help them thrive. During National Child Abuse Prevention Month, we underscore our strong commitment to preventing child abuse and neglect and to ensuring that all children have the opportunity to grow up in safe and nurturing environments.

Parents hold the primary responsibility for a child's health and well-being and provide a foundation of love and support for their children. Parents are not alone as they work to keep their children safe. Helping children requires a commitment from other family members, as well as individuals and organizations in every community. Educators, concerned citizens, faith-based and community organizations, and public officials all have vital roles in protecting our children and supporting families. When children are surrounded by positive relationships and experiences, they are more likely to grow into confident and caring adults.

My Administration remains dedicated to protecting our youth from child abuse and neglect. The Federal Interagency Workgroup on Child Abuse and Neglect, led by the Department of Health and Human Services, provides a forum for Federal agencies to share information and make policy and program recommendations regarding the prevention, intervention, and treatment of child abuse and neglect. Through the National Child Abuse Prevention Initiative, my Administration is partnering with organizations across our country to promote the well-being of children and families and to assist efforts to eradicate abuse.

The Department of Health and Human Services' Administration for Children and Families hosts the National Clearinghouse on Child Abuse and Neglect Information website at www.nccanch.acf.hhs.gov, which offers more information on how to prevent, recognize, and report signs of child abuse. By working together to provide America's young people the love, guidance, and protection they need, we can help protect our youth from abuse and give them the opportunity to achieve their dreams.

NOW, THEREFORE, I, GEORGE W. BUSH, President of the United States of America, by virtue of the authority vested in me by the Constitution and laws of the United States, do hereby proclaim April 2006 as National Child Abuse Prevention Month. I encourage all citizens to protect our children and help build strong communities where individuals, families, and children are valued and supported.

IN WITNESS WHEREOF, I have hereunto set my hand this twenty-ninth day of March, in the year of our Lord two thousand six, and of the Independence of the United States of America the two hundred and thirtieth.

B

[FR Doc. 06-3235

Filed 3-31-06; 8:45 am]

Billing code 3195-01-P